DEPARTMENT OF COMMERCE

Foreign-Trade Zones Board

[B-101-2013]

Foreign-Trade Zone 230—Piedmont Triad Area, North Carolina, Authorization of Production Activity, Sonoco Display and Packaging, (Kitting—Gift Sets), Rural Hall and Winston-Salem, North Carolina

On November 19, 2013, the Piedmont Triad Partnership, grantee of FTZ 230, submitted a notification of proposed production activity to the Foreign-Trade Zones (FTZ) Board on behalf of Sonoco Display and Packaging, in Rural Hall and Winston-Salem, North Carolina.

The notification was processed in accordance with the regulations of the FTZ Board (15 CFR part 400), including notice in the Federal Register inviting public comment (78 FR 73824, 12-9-2013). The FTZ Board has determined that no further review of the activity is warranted at this time. The production activity described in the notification is authorized, subject to the FTZ Act and the FTZ Board's regulations, including Section 400.14, and further subject to a restriction requiring that all foreign bags, handbags, clutches, and cases of textile materials (classified within HTSUS4202.12.4000, 4202.12.6000, 4202.12.8020, 4202.12.8030, 4202.12.8040, 4202.12.8060, 4202.12.8070, 4202.12.8080, 4202.22.4020, 4202.22.4030, 4202.22.4040, 4202.22.4500, 4202.22.6000, 4202.22.8030, 4202.22.8050, 4202.22.8080, 4202.32.4000, 4202.32.8000, 4202.32.9530, 4202.32.9550, 4202.32.9560, 4202.92.0805, 4202.92.0807, 4202.92.0809, 4202.92.1500, 4202.92.2000, 4202.92.3016, 4202.92.3020, 4202.92.3031, 4202.92.3091, 4202.92.6091, 4202.92.9026, and 4202.92.9036) used in the production activity must be admitted to the zone in privileged foreign status (19 CFR 146.41) or domestic (duty-paid) status (19 CFR 146.43).

Dated: March 20, 2014.
Andrew McGilvray,
Executive Secretary.

[FR Doc. 2014-06836 Filed 3-26-14; 8:45 am]

BILLING CODE 3510-DS-P